DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Generic Clearance for the Collection of Qualitative Feedback on Agency Service Delivery, OMB Control Number 1910-5160. This collection was developed as part of a Federal Government-wide effort to streamline the process for seeking feedback from the public on service delivery. This notice announces DOE's intent to submit this collection to the Office of Management and Budget (OMB) for approval and solicits comments on specific aspects of the proposed information collection.

DATES: Comments regarding this collection must be received on or before October 1, 2021. If you anticipate that you will be submitting comments, but find it difficult to do so within the period of time allowed by this notice, please advise the OMB Desk Officer of your intention to make a submission as soon as possible. The Desk Officer may be telephoned at 202-395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Yohanna Freeman, Paperwork Reduction Act Officer, PRA Officer, Office of the Chief Information Officer, U.S. Department of Energy, 1000 Independence Avenue SW, Washington, DC 20585-1615, by telephone at 301-903-1151, or by email at DOEPRA@hq.doe.gov.

SUPPLEMENTARY INFORMATION: This information collection request contains:

(1) OMB No.: 1910-5160;

(2) Information Collection Request Title: Generic Clearance for the Collection of Qualitative Feedback on Agency Service Delivery;

(3) Type of Request: Extension;

(4) Purpose: The proposed information collection activity provides a means to garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management;

(5) Annual Estimated Number of Respondents: 200,000;

(6) Annual Estimated Number of Total Responses: 200,000;

(7) Annual Estimated Number of Burden Hours: 74,000;

(8) Annual Estimated Reporting and Recordkeeping Cost Burden: $3,796,200.

Statutory Authority: Executive Order (E.O.) 13571, Streamlining Service Delivery and Improving Customer Service.

Signing Authority

This document of the Department of Energy was signed on August 27, 2021, by Ann Dunkin, Chief Information Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 27, 2021.
Treena V. Garrett,
Federal Register Liaison Officer, U.S. Department of Energy.

[FR Doc. 2021-18894 Filed 8-31-21; 8:45 am]

BILLING CODE 6450-01-P